DEPARTMENT OF ENERGY

Federal Energy Regulatory Commission

[Docket No. IN01-2-002]

Williams Gas Pipelines Central, Inc.; Notice of Filing of Refund Report

May 3, 2002.

Take notice that on April 6, 2001, Williams Gas Pipelines Central, Inc. (Williams) tendered for filing a refund report detailing a February 23, 2001, Webb Storage Refund of $1,362,293.

Williams states that the refund reflects the amount due to storage customers as agreed to in the Stipulation and Agreement between Market Oversight and Enforcement section, Office of the General Counsel (MOE) and Williams that was approved in the “Order Approving Stipulation and Consent Agreement” issued December 26, 2000.

Any person desiring to protest said filing should file a protest with the Federal Energy Regulatory Commission, 888 First Street, NE, Washington, DC 20426, in accordance with Section 385.211 of the Commission's Rules and Regulations. All such protests must be filed on or before May 10, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11593 Filed 5-8-02; 8:45 am]

BILLING CODE 6717-01-P